DEPARTMENT OF THE INTERIOR

National Park Service

[NPS-WASO-NAGPRA-NPS0037981; PPWOCRADN0-PCU00RP14.R50000]

Notice of Inventory Completion: University of California, Riverside, Riverside, CA

AGENCY: National Park Service, Interior.

ACTION: Notice.

SUMMARY: In accordance with the Native American Graves Protection and Repatriation Act (NAGPRA), the University of California, Riverside has completed an inventory of human remains and has determined that there is a cultural affiliation between the human remains and Indian Tribes or Native Hawaiian organizations in this notice.

DATES: Repatriation of the human remains in this notice may occur on or after June 24, 2024.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside, and additional information on the determinations in this notice, including the results of consultation, can be found in the inventory or related records. The National Park Service is not responsible for the determinations in this notice.

Abstract of Information Available

Based on the information available, human remains representing, at least, one individual have been reasonably identified. No associated funerary objects are present.

At an unknown date human remains were removed by an unknown individual from a gravel pit in Madison County, Nebraska known as the “Norfolk Gravel Pit” (archaeological site 25MD7) and were donated to the Nebraska State Historical Society. At some point prior to 2001, Steve Holen loaned the remains from the Nebraska State Historical Society to Robson Bonnichsen, at Oregon State University, as part of “the Human Skeletal Dating Project”. Bonnichsen obtained human remains that he believed to be of great antiquity as part of the project to send for radiocarbon dating analysis. The remains were submitted to the radiocarbon dating laboratory at the University of California, Riverside, under the direction of Dr. R.E. Taylor, and were tested on September 7, 2001 according to laboratory records. Although Taylor was well-aware of NAGPRA and his obligations under the federal law, he concealed the remains on campus until they were discovered in 2022 by UCR's Repatriation Coordinator. The UCR NAGPRA Program contacted the University of Nebraska State Museum upon discovering the remains, as similar remains were reported in a Notice of Inventory Completion published by the museum in 2000 which had reportedly been donated by the Nebraska State Historical Society to the museum. The Nebraska State Museum indicated that although the remains are likely from the same or a nearby site, they could not confirm if they were from the same individual previously repatriated by the museum and declined legal responsibility for the repatriation.

Cultural Affiliation

Based on the information available and the results of consultation, cultural affiliation is clearly identified by the information available about the human remains described in this notice.

Determinations

The University of California, Riverside has determined that:

• The human remains described in this notice represent the physical remains of one individual of Native American ancestry.

• There is a reasonable connection between the human remains and associated funerary objects described in this notice and the Cheyenne River Sioux Tribe of the Cheyenne River Reservation, South Dakota; Iowa Tribe of Oklahoma; Kickapoo Tribe of Indians of the Kickapoo Reservation in Kansas; Oglala Sioux Tribe; Omaha Tribe of Nebraska; Pawnee Nation of Oklahoma; Ponca Tribe of Indians of Oklahoma; Ponca Tribe of Nebraska; Rosebud Sioux Tribe of the Rosebud Indian Reservation, South Dakota; Santee Sioux Nation, Nebraska; Spirit Lake Tribe, North Dakota; Standing Rock Sioux Tribe of North & South Dakota; Three Affiliated Tribes of the Fort Berthold Reservation, North Dakota; Turtle Mountain Band of Chippewa Indians of North Dakota; Winnebago Tribe of Nebraska; and the Yankton Sioux Tribe of South Dakota.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after June 24, 2024. If competing requests for repatriation are received, the University of California, Riverside must determine the most appropriate requestor prior to repatriation. Requests for joint repatriation of the human remains are considered a single request and not competing requests. The University of California, Riverside is responsible for sending a copy of this notice to the Indian Tribes and Native Hawaiian organizations identified in this notice.

Authority: Native American Graves Protection and Repatriation Act, 25 U.S.C. 3003, and the implementing regulations, 43 CFR 10.10.

Dated: May 15, 2024.
Melanie O'Brien,
Manager, National NAGPRA Program.

[FR Doc. 2024-11443 Filed 5-23-24; 8:45 am]

BILLING CODE 4312-52-P